DEPARTMENT OF COMMERCE

15 CFR Part 801

[Docket ID 260108-0021]

RIN 0691-AA95

Survey of International Trade in Services Between U.S. and Foreign Persons and Surveys of Direct Investment

AGENCY: Bureau of Economic Analysis, Department of Commerce.

ACTION: Final rule.

SUMMARY: By this rule, the Department of Commerce is amending its regulations governing the collection of data on international trade in services and direct investment by removing certain provisions that merely restate what is clearly provided by the underlying statute and serve no meaningful purpose. The intended effect is to streamline such regulations, reduce regulatory clutter and complexity, and improve clarity for the public.

DATES: This rule is effective on January 15, 2026.

FOR FURTHER INFORMATION CONTACT: Daniel Sweeney, Senior Counsel, Office of the General Counsel, at (202) 482-1395.

SUPPLEMENTARY INFORMATION:

I. Background

The Department of Commerce is amending the regulations at 15 CFR part 801, which govern the collection of data on international trade in services and direct investment between United States and foreign persons. These data collection programs are conducted by the Bureau of Economic Analysis (BEA) under the authority of the International Investment and Trade in Services Survey Act (22 U.S.C. 3101-3108) (the Act). The regulations in this part provide a framework for various surveys that gather comprehensive and reliable economic statistics on international investment and trade to support U.S. commercial policy, monitor the U.S. economy, and improve the ability of U.S. businesses to evaluate market opportunities.

The current structure of 15 CFR part 801 was established in a final rule published on April 24, 2012 (77 FR 24374). The primary purpose of the 2012 rulemaking was to simplify and streamline the process by which BEA conducts its surveys. Previously, the implementation of individual surveys often required separate notice-and-comment rulemaking actions. The 2012 rule created a more efficient, generalized framework by allowing BEA to issue specific survey requirements, such as reporting criteria and due dates, through individual notices published in the Federal Register. BEA received no public comments on the proposed rule, indicating general acceptance of that procedural shift. That action also consolidated the regulatory framework by revising part 801 and removing and reserving 15 CFR parts 806 and 807. The legal basis for these regulations includes the Act, as well as 5 U.S.C. 301, 15 U.S.C. 4908, and Executive Orders 11961, 12318, and 12518.

Following the establishment of that framework, BEA has periodically amended part 801 to implement or modify specific mandatory benchmark surveys that are essential for producing accurate economic accounts. For example, in a final rule published on August 14, 2014 (79 FR 47575), BEA reinstated the BE-13, Survey of New Foreign Direct Investment in the United States, to gather information on the acquisition or establishment of U.S. business enterprises by foreign investors. Similarly, the regulations have been updated to set the requirements for other recurring benchmark surveys, such as the BE-10, Benchmark Survey of U.S. Direct Investment Abroad (84 FR 60915, Nov. 12, 2019) and the BE-12, Benchmark Survey of Foreign Direct Investment in the United States (87 FR 58954, Sept. 29, 2022). To better measure U.S. trade in services, BEA also established benchmark surveys for specific sectors, including the BE-120 for transactions in selected services and intellectual property (87 FR 54887, Sept. 8, 2022); the BE-140 for insurance transactions (87 FR 54888, Sept. 8, 2022); and the BE-180 for financial services transactions (85 FR 31052, May 22, 2020). BEA continually refines these surveys to adapt to the evolving economy and reduce respondent burden. These refinements often incorporate public feedback, such as when BEA added definitions and guidance to the BE-10 survey forms in response to requests for clarification on new digital economy questions (84 FR 60915, Nov. 12, 2019). In that same rulemaking, BEA also removed questions on contract manufacturing services that were burdensome for companies to provide and not widely used by data users.

As part of that framework, the regulations set forth general provisions that apply to the various surveys. Section 801.1 outlines the purpose of the regulations, stating that they provide general information on the data collection programs and reiterate the purpose of the Act, which is to collect comprehensive information with minimal burden on respondents. Section 801.5 establishes the confidentiality of the information collected, explicitly stating that information collected pursuant to 22 U.S.C. 3104(c) is confidential. It restricts access to the data to designated Federal government officials and their contractors for analytical or statistical purposes only and prohibits the disclosure of information in any way that could identify an individual respondent. Section 801.6 specifies the civil and criminal penalties for noncompliance, in accordance with 22 U.S.C. 3105. It details that failure to report may result in civil penalties of not less than $2,500 and not more than $25,000, which are subject to inflationary adjustments, and that willful failure to report may result in criminal penalties, including a fine of not more than $10,000 and, for an individual, imprisonment of not more than one year.

The Department of Commerce has determined that the second sentence of § 801.1, and §§ 801.5 and 801.6 in their entirety, are appropriate for removal for the reasons discussed below.

II. Discussion

This rule removes the second sentence of § 801.1 and both §§ 801.5 and 801.6 in their entirety. The Department has determined that each of these provisions merely restates what is already provided by the underlying statute and serves no meaningful purpose. By eliminating these sections, the Department aims to ensure that the Code of Federal Regulations generally contains only essential implementing rules and otherwise directs the public to the underlying statutes for foundational legal requirements. This action is part of the Department's ongoing commitment to reducing regulatory complexity and clutter, improving the clarity and efficiency of its rules, and recentering statutory text without any superfluous regulatory overlay.

To begin, the Department is removing § 801.5, which addresses the confidentiality of information collected through the surveys. The Department's primary policy rationale for this change is that the regulation is unnecessary and duplicative. The confidentiality protections that § 801.5 describes are already established with sufficient detail and force of law directly within the Act itself at 22 U.S.C. 3104(c). That statutory provision is comprehensive and self-executing, clearly defining who may access the data, the limited purposes for which it may be used, and the strict prohibitions against any disclosure that could identify a specific person or entity. Because the statute provides a complete and legally binding framework for confidentiality, the corresponding regulation adds no substantive value. The removal of § 801.5 streamlines the regulatory landscape by making the statute the single, authoritative source for these critical protections, which enhances clarity and eliminates a superfluous regulatory layer. As a legal matter, the Department has determined that no provision within the Act mandates the issuance of implementing regulations for confidentiality, rendering § 801.5 not statutorily required.

Similarly, the Department is removing § 801.6, which outlines the civil and criminal penalties for failing to comply with the reporting requirements. The policy basis for this removal is that the regulation is redundant. Section 801.6 largely repeats the penalty provisions already explicitly detailed in the Act at 22 U.S.C. 3105. The statute itself clearly sets forth the fines and potential terms of imprisonment for violations, and these provisions are self-executing, meaning they are legally effective without any need for implementing regulations. Restating these penalties in the Code of Federal Regulations serves no practical purpose, provides no additional guidance to the public, and creates unnecessary regulatory text. Removing this section will direct the public to the statute as the definitive source for penalty information, promoting clarity and reducing regulatory complexity. And the Department has concluded that this regulation is not statutorily required because the Act does not necessitate any further rules to make its penalty provisions functional or enforceable.

The Department is revising the introductory text of §§ 801.7, 801.8, 801.10, 801.11, 801.12, and 801.13 to reflect the removal of §§ 801.5 and 801.6.

Lastly, the Department is removing certain language from § 801.1, which describes the purpose of the part. Specifically, the Department is removing the second sentence of this section. This sentence purports to restate the purpose of the Act itself, which is already more fully articulated by Congress in 22 U.S.C. 3101(b). The second sentence of § 801.1 is therefore, at the very least, redundant and unnecessary. Removing this sentence makes the regulation more concise and makes the text of the Act the single, authoritative source of the Act's purpose.

III. Procedural Issues and Regulatory Review

A. Administrative Procedure Act

Pursuant to 5 U.S.C. 553(b)(B), the Department finds good cause to waive the prior notice and opportunity for public participation requirements of the Administrative Procedure Act for this final rule. The Department has determined that prior notice and opportunity for public participation is unnecessary because this rule only removes regulatory language that restates the underlying statute (and makes minor, conforming amendments). The redundant and unnecessary nature of the removed language is apparent and will not be affected by any public comment. For the same reason, the Department has determined that delaying the removal of this language for the sake of carrying out the notice and comment process would be contrary to the public interest. The Department therefore finds good cause to waive the public notice and comment period under 553(b)(B) and, for reasons stated above, to waive the 30-day delay in effectiveness under 553(d).

B. Executive Orders 12866, 14192, 13132

The Office of Management and Budget has determined this rule is not significant pursuant to E.O. 12866. This rule is an E.O. 14192 deregulatory action. This rule does not contain policies having federalism implications as the term is defined in E.O. 13132.

C. Regulatory Flexibility Act

Because a notice of proposed rulemaking and an opportunity for public participation are not required to be given for this rule by 5 U.S.C. 553(b)(B), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501, et seq.

List of Subjects in 15 CFR Part 801

Administrative practice and procedure, Confidential business information, Economic statistics, Foreign trade, Investments, Penalties, Reporting and recordkeeping requirements.

Dated: January 12, 2026.
Joyce Meyer,
Under Secretary for Economic Affairs.

For the reasons set forth in the preamble, the Department amends 15 CFR part 801 as follows:

PART 801—SURVEY OF INTERNATIONAL TRADE IN SERVICES BETWEEN U.S. AND FOREIGN PERSONS AND SURVEYS OF DIRECT INVESTMENT

1. The authority citation for part 801 continues to read as follows:

Authority: 5 U.S.C. 301; 15 U.S.C. 4908; 22 U.S.C. 3101-3108; E.O. 11961 (3 CFR, 1977 Comp., p. 86), as amended by E.O. 12318 (3 CFR, 1981 Comp. p. 173); and E.O. 12518 (3 CFR, 1985 Comp. p. 348).

2. Revise § 801.1 to read as follows:

§ 801.1 Purpose.

The purpose of this part is to provide general information on international trade in services and direct investment data collection programs and analyses under the International Investment and Trade in Services Survey Act (22 U.S.C. 3101 to 3108, as amended) (the Act).

§ 801.5 [Removed and Reserved]

3. Remove and reserve § 801.5.

§ 801.6 [Removed and Reserved]

4. Remove and reserve § 801.6.

5. Revise § 801.7 introductory text to read as follows:

§ 801.7 Rules and regulations for the BE-13, Survey of New Foreign Direct Investment in the United States.

The BE-13, Survey of New Foreign Direct Investment in the United States, is conducted to collect data on the acquisition or establishment of U.S. business enterprises by foreign investors and the expansion of existing U.S. affiliates of foreign companies to establish new facilities where business is conducted. Foreign direct investment is defined as the ownership or control by one foreign person (foreign parent) of 10 percent or more of the voting securities of an incorporated U.S. business enterprise, or an equivalent interest of an unincorporated U.S. business enterprise, including a branch. BEA will describe the proposed information collection in a public notice and will solicit comments according to the requirements of the Paperwork Reduction Act (44 U.S.C. 3501-3520). All legal authorities, provisions, definitions, and requirements contained in §§ 801.1, 801.2, and 801.4, 22 U.S.C. 3104(c), and 22 U.S.C. 3105 are applicable to this survey. Specific additional rules and regulations for the BE-13 survey are given in paragraphs (a) through (d) of this section. More detailed instructions are given on the report forms and instructions.

* * * * *

6. Revise § 801.8 introductory text to read as follows:

§ 801.8 Rules and regulations for the BE-10, Benchmark Survey of U.S. Direct Investment Abroad.

A BE-10, Benchmark Survey of U.S. Direct Investment Abroad, will be conducted every five years and covers years ending in 4 and 9. All legal authorities, provisions, definitions, and requirements contained in §§ 801.1, 801.2, and 801.4, 22 U.S.C. 3104(c), and 22 U.S.C. 3105 are applicable to this survey. Specific additional rules and regulations for the BE-10 survey are given in paragraphs (a) through (d) of this section. More detailed instructions are given on the report forms and instructions.

* * * * *

7. Revise § 801.10 introductory text to read as follows:

§ 801.10 Rules and regulations for BE-12, Benchmark Survey of Foreign Direct Investment in the United States.

A BE-12, Benchmark Survey of Foreign Direct Investment in the United States, will be conducted once every five years and covers years ending in 2 and 7. BEA will describe the proposed information collection in a public notice and will solicit comments accounting to the requirements of the Paperwork Reduction Act (44 U.S.C. 3501-3520). All legal authorities, provisions, definitions, and requirements contained in §§ 801.1, 801.2, and 801.4, 22 U.S.C. 3104(c), and 22 U.S.C. 3105 are applicable to this survey. Specific additional rules and regulations for the BE-12 survey are given in paragraphs (a) through (e) of this section. More detailed instructions are given on the report forms and instructions.

* * * * *

8. Revise § 801.11 introductory text to read as follows:

§ 801.11 Rules and regulations for the BE-120 Benchmark Survey of Transactions in Selected Services and Intellectual Property with Foreign Persons.

The BE-120 Benchmark Survey of Transactions in Selected Services and Intellectual Property with Foreign Persons will be conducted once every five years and covers years ending in 2 and 7. BEA will describe the proposed information collection in a public notice and will solicit comments according to the requirements of the Paperwork Reduction Act (44 U.S.C. 3501-3520). All legal authorities, provisions, definitions, and requirements contained in §§ 801.1, 801.2, and 801.4, 22 U.S.C. 3104(c), and 22 U.S.C. 3105 are applicable to this survey. Specific additional rules and regulations for the BE-120 survey are given in this section. More detailed instructions are given on the report form and in instructions accompanying the report form.

* * * * *

9. Revise § 801.12 introductory text to read as follows:

§ 801.12 Rules and regulations for the BE-140 Benchmark Survey of Insurance Transactions by U.S. Insurance Companies with Foreign Persons.

The BE-140 Benchmark Survey of Insurance Transactions by U.S. Insurance Companies with Foreign Persons will be conducted once every five calendar years and covers years ending in 3 and 8. BEA will describe the proposed information collection in a public notice and will solicit comments according to the requirements of the Paperwork Reduction Act (44 U.S.C. 3501-3520). All legal authorities, provisions, definitions, and requirements contained in §§ 801.1, 801.2, and 801.4, 22 U.S.C. 3104(c), and 22 U.S.C. 3105 are applicable to this survey. Specific additional rules and regulations for the BE-140 survey are given in this section. More detailed instructions are given on the report form and in instructions accompanying the report form.

* * * * *

10. Revise § 801.13 introductory text to read as follows:

§ 801.13 Rules and regulations for the BE-180 Benchmark Survey of Financial Services Transactions between U.S. Financial Services Providers and Foreign Persons.

The BE-180 Benchmark Survey of Financial Services Transactions between U.S. Financial Services Providers and Foreign Persons will be conducted every five years and covers fiscal years ending in 4 and 9. BEA will describe the proposed information collection in a public notice and will solicit comments according to the requirements of the Paperwork Reduction Act (44 U.S.C. 3501-3520). All legal authorities, provisions, definitions, and requirements contained in §§ 801.1, 801.2, and 801.4, 22 U.S.C. 3104(c), and 22 U.S.C. 3105 are applicable to this survey. Specific additional rules and regulations for the BE-180 survey are given in this section. More detailed instructions are given on the report form and in instructions accompanying the report form.

* * * * *

[FR Doc. 2026-00691 Filed 1-14-26; 8:45 am]

BILLING CODE 3510-06-P